DEPARTMENT OF JUSTICE

Bureau of Alcohol, Tobacco, Firearms and Explosives

[OMB Number 1140-0020]

Agency Information Collection Activities; Proposed eCollection of eComments Requested; Revision of a Currently Approved Collection

AGENCY: Bureau of Alcohol, Tobacco, Firearms and Explosives, Department of Justice.

ACTION: 60-Day notice.

SUMMARY: The Bureau of Alcohol, Tobacco, Firearms and Explosives (ATF), Department of Justice (DOJ), will submit the following information collection request to the Office of Management and Budget (OMB) for review and approval in accordance with the Paperwork Reduction Act of 1995. The information collection (IC) OMB #1140-0020 is being revised due to material changes to the form, such as added checkboxes, revised questions, new questions added, instruction clarification, grammatical changes (sentence rephrasing/statement modification) and formatting changes (added header). There is also a decrease in the total number of respondents, responses, and burden hours since the last renewal in 2019. The proposed information collection is also being published to obtain comments from the public and affected agencies.

DATES: Comments are encouraged and will be accepted for 60 days until May 8, 2023.

FOR FURTHER INFORMATION CONTACT: If you have additional comments regarding the estimated public burden or associated response time, suggestions, or need a copy of the proposed information collection instrument with instructions, or additional information, contact: Jason Gluck, Firearms Enforcement Specialist, Firearms Industry Program Branch, by mail at 99 New York Ave. NE, 6.N-512, Washington, DC 20226, email at FederalRegisterNotice@atf.gov, or telephone at 202-648-7190.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and, if so, how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection (check justification or form 83): Revision of a Currently Approved Collection.

2. The Title of the Form/Collection: Firearms Transaction Record/Registro de Transacción de Armas de Fuego.

3. The agency form number, if any, and the applicable component of the Department sponsoring the collection:

Form number (if applicable): ATF Form 4473 (5300.9).

Component: Bureau of Alcohol, Tobacco, Firearms and Explosives, U.S. Department of Justice.

4. Affected public who will be asked or required to respond, as well as a brief abstract:

Primary: Individuals or households.

Other (if applicable): Business or other for-profit.

Abstract: The Firearms Transaction Record/Registro de Transacción de Armas de Fuego allows Federal firearms licensees to determine the eligibility of persons purchasing firearms. It also alerts buyers to certain restrictions on the receipt and possession of firearms.

5. An estimate of the total number of respondents and the amount of time estimated for an average respondent to respond: An estimated 16,102,962 respondents will utilize the form annually and it will take each respondent approximately 30 minutes to complete their responses.

6. An estimate of the total public burden (in hours) associated with the collection: The estimated annual public burden associated with this collection is 8,051,482 which is equal to 16,102,962 (total respondents) × 1 (# of response per respondent) × .5 (30 minutes).

7. An Explanation of the Change in Estimates: The adjustments associated with this information collection, includes a decrease in the total respondents by 1,086,139. This is due to a decrease in the number of firearms sold in the last calendar year. Consequently, the total burden hours for this IC also decreased by 543,069 hours since the last renewal in 2019.

If additional information is required contact: John R. Carlson, Department Clearance Officer, United States Department of Justice, Justice Management Division, Policy and Planning Staff, Two Constitution Square, 145 N Street NE, 4W-218, Washington, DC 20530.

Dated: March 2, 2023.
John R. Carlson,
Department Clearance Officer for PRA, U.S. Department of Justice.

[FR Doc. 2023-04656 Filed 3-6-23; 8:45 am]

BILLING CODE 4410-FY-P